INTERNATIONAL TRADE COMMISSION

[Investigation No. 337-TA-1360]

Certain Portable Battery Jump Starters and Components Thereof (III) Institution of Investigation

AGENCY: U.S. International Trade Commission.

ACTION: Notice.

SUMMARY: Notice is hereby given that a complaint was filed with the U.S. International Trade Commission on February 13, 2023, under section 337 of the Tariff Act of 1930, as amended, on behalf of The NOCO Company of Glenwillow, Ohio. An amended complaint was filed March 13, 2023. The amended complaint alleges violations of section 337 based upon the importation into the United States, the sale for importation, and the sale within the United States after importation of certain portable battery jump starters and components thereof by reason of the infringement of certain claims of U.S. Patent No. 9,770,992 (“the '992 patent”); U.S. Patent No. 10,328,808 (“the '808 patent”); U.S. Patent No. 10,981,452 (“the '452 patent”); U.S. Patent No. 11,254,213 (“the '213 patent”); and U.S. Patent No. 11,447,023 (“the '023 patent”). The amended complaint further alleges that an industry in the United States exists as required by the applicable Federal Statute. The amended complaint also alleges violations of section 337 based upon the importation into the United States, or in the sale of certain portable battery jump starters and components thereof by reason of common law trade dress infringement and false designation of origin, and false advertising and unfair competition, the threat or effect of which is to destroy or substantially injure an industry in the United States. The complainant requests that the Commission institute an investigation and, after the investigation, issue a limited exclusion order and cease and desist orders.

ADDRESSES: The amended complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2023).

Scope of Investigation: Having considered the complaint, the U.S. International Trade Commission, on April 12, 2023, ordered that—

(1) Pursuant to subsection (b) of section 337 of the Tariff Act of 1930, as amended, an investigation be instituted to determine whether there is a violation of subsection (a)(1)(A) in the importation into the United States or sale of certain portable battery jump starters and components thereof by reason of trade dress infringement, false designation of origin, false advertising, and unfair competition, the threat or effect of which is to destroy or substantially injure an industry in the United States;

(2) Pursuant to section 210.10(b)(1) of the Commission's Rules of Practice and Procedure, 19 CFR 210.10(b)(1), the plain language description of the accused products or category of accused products, which defines the scope of the investigation, is “portable battery-powered devices that are used to jump-start batteries in automobiles, trucks, and other vehicles, and related accessories and components, namely cases, battery cables, and clamps”;

(3) For the purpose of the investigation so instituted, the following are hereby named as parties upon which this notice of investigation shall be served:

(a) The complainant is: The NOCO Company, 30339 Diamond Parkway #102, Glenwillow, Ohio 44139.

(b) The respondents are the following entities alleged to be in violation of section 337, and are the parties upon which the complaint is to be served:

Shenzhen Carku Technology Co., Ltd., Building A, Qixing Creative Square, Lianrun Road, Gaofeng Community, Dalang Street, Longhua District Shenzhen, Guangdong China 518109

Aukey Technology Co., Ltd., Room 102, Building P09, Huanan city Electronic Trading Center, Longgang District, Shenzhen China 51800

Metasee LLC, 5205 Broadway #634, Pearland, Texas 77581

Ace Farmer LLC, 11833 Cutten Road, Suite 300, Houston, Texas 77066

Shenzhen Konghui Trading Co., Ltd., d/b/a Hulkman Direct, Longhuaqu Minzhijiedao Minqiangshequ, Xiangnansanqu Dongmeidasha622, Shenzhen, Guangdong China 518000

HULKMAN LLC, 4500 Great America Pkwy, Suite 100 #110, Santa Clara, California 95054

Shenzhenshi Daosishangmao Youxiangongsi, d/b/a/ Fanttik Direct, futianqu, shatoujiedao, tiananshequ tairanjiulu11hao, haisongdashaAzuo, sanceng301R16, shenzhen, Guangdong China 518000

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: April 12, 2023.
Lisa Barton,
Secretary to the Commission.

[FR Doc. 2023-08137 Filed 4-17-23; 8:45 am]

BILLING CODE 7020-02-P